DEPARTMENT OF TRANSPORTATION

Maritime Administration

[Docket Number: MARAD-2001-9052]

Requested Administrative Waiver of the Coastwise Trade Laws

AGENCY: Maritime Administration, Department of Transportation.

ACTION: Invitation for public comments on a requested administrative waiver of the Coastwise Trade Laws for the vessel SYBARIS.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before April 9, 2001.

ADDRESSES: Comments should refer to docket number MARAD-2001-9052. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR Part 388.

Vessel Proposed for Waiver of the U.S.-Build Requirement

(1) Name of vessel and owner for which waiver is requested. Name of vessel: SYBARIS. Owner: Elliot Storm, Kendell Storm.

(2) Size, capacity and tonnage of vessel. According to the applicant: “Size: 40′6″ (loa), Cap./Tonnage: 12 Tons (gross) 11 (net) (46 U.S.C. 14502), Displacement: 20,878 lbs. (dry)”

(3) Intended use for vessel, including geographic region of intended operation and trade. According to the applicant: “Coastal cruising for up to 6 persons (daytime, weekend, week); (educational and leisure) East Coast United States (initially Maine to Virginia: later to the southeast and the U.S. Virgin Islands.)”

(4) Date and Place of construction and (if applicable) rebuilding. Date of construction: 1988. Place of construction: Portsmouth, Hampshire, England.

(5) A statement on the impact this waiver will have on other commercial passenger vessel operators. According to the applicant:

It is our intent to supplement our income in order to support a cruising family lifestyle. We believe that the effect of our vessel on existing commercial or small private operators will be nil to nonexistent. We plan to cruise as a family with our children (ages 9 and 11) and teach cruising or other educational values to supplement our income afloat. We would not be in any one location longer than a few weeks, so local impact would be negligible to none at all. Existing operations pursuing the intent we desire are few and far between. We believe that it is far more important to spend time together as a family and go while you are still young enough to be able to cruise. Our children are already being home schooled and are eager and ready to sail/cruise at a moments notice. Again, we are not looking to encroach upon anyone's income, just to be able to supplement ours in a way that will allow us to achieve our goal.”

(6) A statement on the impact this waiver will have on U.S. shipyards. According to the applicant: “In regards to US Shipyards, We have owned this boat (acquired used) since 1995. It is a certified blue water cruiser with a Lloyds of London hull registry. We are not in the market for another vessel, nor do we perceive that this particular vessel would have any impact on US shipyards.”

Dated: March 2, 2001.
By Order of the Maritime Administrator.
Joel C. Richard,
Secretary, Maritime Administration.

[FR Doc. 01-5903 Filed 3-8-01; 8:45 am]

BILLING CODE 4910-81-P